DEPARTMENT OF TRANSPORTATION

Federal Railroad Administration

[Docket No. FRA-2023-0002-N-36]

Proposed Agency Information Collection Activities; Comment Request

In notice document 2023-28382 beginning on page 89017 in the issue of Tuesday, December 26, 2023, make the following correction:

On page 89017, in the third column, in the second line “February 9, 2024” should read “February 26, 2024”.

[FR Doc. C1-2023-28382 Filed 1-4-24; 8:45 am]

BILLING CODE 1505-01-D